DEPARTMENT OF TRANSPORTATION

Federal Motor Carrier Safety Administration

[Docket No. FMCSA-2015-0072]

Qualification of Drivers; Exemption Applications; Vision

AGENCY: Federal Motor Carrier Safety Administration (FMCSA), DOT.

ACTION: Notice of applications for exemptions; request for comments.

SUMMARY: FMCSA announces receipt of applications from 40 individuals for exemption from the vision requirement in the Federal Motor Carrier Safety Regulations. They are unable to meet the vision requirement in one eye for various reasons. The exemptions will enable these individuals to operate commercial motor vehicles (CMVs) in interstate commerce without meeting the prescribed vision requirement in one eye. If granted, the exemptions would enable these individuals to qualify as drivers of commercial motor vehicles (CMVs) in interstate commerce.

DATES: Comments must be received on or before December 14, 2015. All comments will be investigated by FMCSA. The exemptions will be issued the day after the comment period closes.

ADDRESSES: You may submit comments bearing the Federal Docket Management System (FDMS) Docket No. FMCSA-2015-0072 using any of the following methods:

• Federal eRulemaking Portal: Go to http://www.regulations.gov. Follow the on-line instructions for submitting comments.

• Mail: Docket Management Facility; U.S. Department of Transportation, 1200 New Jersey Avenue SE., West Building Ground Floor, Room W12-140, Washington, DC 20590-0001.

• Hand Delivery: West Building Ground Floor, Room W12-140, 1200 New Jersey Avenue SE., Washington, DC, between 9 a.m. and 5 p.m., Monday through Friday, except Federal Holidays.

• Fax: 1-202-493-2251.

Instructions: Each submission must include the Agency name and the docket numbers for this notice. Note that all comments received will be posted without change to http://www.regulations.gov, including any personal information provided. Please see the Privacy Act heading below for further information.

Docket: For access to the docket to read background documents or comments, go to http://www.regulations.gov at any time or Room W12-140 on the ground level of the West Building, 1200 New Jersey Avenue SE., Washington, DC, between 9 a.m. and 5 p.m., Monday through Friday, except Federal holidays. The FDMS is available 24 hours each day, 365 days each year. If you want acknowledgment that we received your comments, please include a self-addressed, stamped envelope or postcard or print the acknowledgement page that appears after submitting comments on-line.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Christine A. Hydock, Chief, Medical Programs Division, (202) 366-4001, fmcsamedical@dot.gov, FMCSA, Department of Transportation, 1200 New Jersey Avenue SE., Room W64-113, Washington, DC 20590-0001. Office hours are 8:30 a.m. to 5 p.m., e.t., Monday through Friday, except Federal holidays. If you have questions regarding viewing or submitting material to the docket, contact Docket Services, telephone (202) 366-9826.

SUPPLEMENTARY INFORMATION:

I. Background

Under 49 U.S.C. 31136(e) and 31315, FMCSA may grant an exemption from the Federal Motor Carrier Safety Regulations for a 2-year period if it finds “such exemption would likely achieve a level of safety that is equivalent to or greater than the level that would be achieved absent such exemption.” FMCSA can renew exemptions at the end of each 2-year period. The 40 individuals listed in this notice have each requested such an exemption from the vision requirement in 49 CFR 391.41(b)(10), which applies to drivers of CMVs in interstate commerce. Accordingly, the Agency will evaluate the qualifications of each applicant to determine whether granting an exemption will achieve the required level of safety mandated by statute.

II. Qualifications of Applicants

W. Adams

Mr. Adams, 57, has had a prosthetic left eye since childhood. The visual acuity in his right eye is 20/20, and in his left eye, no light perception. Following an examination in 2015, his optometrist stated, “If commercial drivers are allowed to drive monocularly. His right has adequate acuity/color/side vision as any 60 year old eye is expected as normal for age group.” Mr. Adams reported that he has driven straight trucks for 9 years, accumulating 144,000 miles, tractor-trailer combinations for 13 years, accumulating 1.69 million miles, and buses for 1 year, accumulating 5,000 miles. He holds an operator's license from Tennessee. His driving record for the last 3 years shows no crashes and no convictions for moving violations in a CMV.

David R. Alford

Mr. Alford, 52, has had amblyopia in his right eye since childhood. The visual acuity in his right eye is 20/80, and in his left eye, 20/20. Following an examination in 2015, his optometrist stated, “Based on my visual assessment Mr. Alford has sufficient vision to perform the driving tasks required to operate a commercial vehicle.” Mr. Alford reported that he has driven straight trucks for 15 years, accumulating 72,000 miles. He holds an operator's license from Utah. His driving record for the last 3 years shows no crashes and no convictions for moving violations in a CMV.

Randy S. Asher

Mr. Asher, 59, has had aphakia in his right eye since childhood. The visual acuity in his right eye is counting fingers, and in his left eye, 20/20. Following an examination in 2015, his ophthalmologist stated, “That said, if his vision, visual fields, and color vision tests as documented meet the criteria set forth by those with direct knowledge of commercial vehicle operational visual requirements, then he would seem to have sufficient vision to perform the driving tasks required to operate a commercial vehicle.” Mr. Asher reported that he has driven straight trucks for 30 years, accumulating 900,000 miles. He holds an operator's license from Nebraska. His driving record for the last 3 years shows no crashes and no convictions for moving violations in a CMV.

Steven W. Barrows

Mr. Barrows, 67, has had a prosthetic right eye since childhood. The visual acuity in his right eye is no light perception, and in his left eye, 20/15. Following an examination in 2014, his ophthalmologist stated, “Mr. Barrows only has a left eye and has been monocular since 1961. In my opinion, he is safe to continue operating a commercial vehicle.” Mr. Barrows reported that he has driven straight trucks for 30 years, accumulating 97,500 miles, and tractor-trailer combinations for 1.5 years, accumulating 30,000 miles. He holds a Class A Commercial Driver's License (CDL) from Oregon. His driving record for the last 3 years shows no crashes and no convictions for moving violations in a CMV.

Steven A. Blinco

Mr. Blinco, 60, has complete loss of vision in his right eye due to a traumatic incident in 1985. The visual acuity in his right eye is no light perception, and in his left eye, 20/20. Following an examination in 2015, his optometrist stated, “The patient has sufficient vision to perform the driving tasks required to operate commercial vehicle.” Mr. Blinco reported that he has driven straight trucks for 40 years, accumulating 800,000 miles, and tractor-trailer combinations for 40 years, accumulating 3.2 million miles. He holds a Class A CDL from Montana. His driving record for the last 3 years shows no crashes and no convictions for moving violations in a CMV.

Charles W. Bradley

Mr. Bradley, 53, has had a macular toxoplasmosis scar in his right eye since birth. The visual acuity in his right eye is light perception, and in his left eye, 20/20. Following an examination in 2015, his optometrist stated, “It is my opinion that Mr. Bradley has sufficient vision to safely perform the driving tasks required to operate a commercial vehicle.” Mr. Bradley reported that he has driven straight trucks for 27 years, accumulating 54,000 miles. He holds an operator's license from South Carolina. His driving record for the last 3 years shows no crashes and no convictions for moving violations in a CMV.

Ricky A. Bray

Mr. Bray, 61, has a prosthetic right eye due to a traumatic incident in 1974. The visual acuity in his right eye is no light perception, and in his left eye, 20/20. Following an examination in 2015, his optometrist stated, “It is my opinion, based on the minimum requirements, Ricky Bray has sufficient vision to operate a commercial vehicle.” Mr. Bray reported that he has driven straight trucks for 15 years, accumulating 1.88 million miles. He holds an operator's license from Arkansas. His driving record for the last 3 years shows no crashes and no convictions for moving violations in a CMV.

Ryan M. Coelho

Mr. Coelho, 37, has had strabismic amblyopia in his right eye since childhood. The visual acuity in his right eye is 20/100, and in his left eye, 20/20. Following an examination in 2015, his optometrist stated, “The above findings reveal no significant visual difficulties that will hinder Ryan's ability to perform all driving tasks required to operate a commercial vehicle.” Mr. Coelho reported that he has driven straight trucks for 19 years, accumulating 665,000 miles. He holds an operator's license from Rhode Island. His driving record for the last 3 years shows no crashes and no convictions for moving violations in a CMV.

Travis R. Cook

Mr. Cook, 44, has had amblyopia in his right eye since birth. The visual acuity in his right eye is 20/400, and in his left eye, 20/20. Following an examination in 2015, his optometrist stated, “I believe that Mr. Cook has sufficient vision to perform the driving tasks required to operate a commercial vehicle.” Mr. Cook reported that he has driven straight trucks for 9 years, accumulating 450 miles. He holds a Class B CDL from Kansas. His driving record for the last 3 years shows no crashes and no convictions for moving violations in a CMV.

Larry P. Davis

Mr. Davis, 68, has a phthisical cornea in his left eye due to a traumatic incident in 2010. The visual acuity in his right eye is 20/20, and in his left eye, light perception. Following an examination in 2015, his ophthalmologist stated, “In my opinion, Larry has excellent vision in his right eye and unfortunately because of an on the job trauma has lost all useful vision in his left eye. Larry has a 50-year history of commercial driving and 5 years of commercial driving since his trauma, and has been accident free in the at time [sic].” Mr. Davis reported that he has driven straight trucks for 50 years, accumulating 1.5 million miles, and tractor-trailer combinations for 40 years, accumulating 200,000 miles. He holds a Class A CDL from Missouri. His driving record for the last 3 years shows no crashes and no convictions for moving violations in a CMV.

Donald S. Fries

Mr. Fries, 43, has had amblyopia in his right eye since childhood. The visual acuity in his right eye is 20/400, and in his left eye, 20/20. Following an examination in 2014, his optometrist stated, “In my opinion, I believe he is able to function well in his duties of driving a truck. He has sufficient vision to perform these duties.” Mr. Fries reported that he has driven straight trucks for 10 years, accumulating 25,000 miles, and tractor-trailer combinations for 5 years, accumulating 137,500 miles. He holds a Class A CDL from Pennsylvania. His driving record for the last 3 years shows no crashes and no convictions for moving violations in a CMV.

Kerrie K. Furbish

Ms. Furbish, 43, has had a retinal detachment in her right eye since 1997. The visual acuity in her right eye is counting fingers, and in her left eye, 20/20. Following an examination in 2015, her optometrist stated, “In summary, it is my opinion that Kerrie Furbish has sufficient vision (in the left eye) to perform the driving tasks required to operate a commercial vehicle.” Ms. Furbish reported that she has driven buses for 6 years, accumulating 2,880 miles. She holds a Class C CDL from Maine. Her driving record for the last 3 years shows no crashes and no convictions for moving violations in a CMV.

Jerry W. Gibson

Mr. Gibson, 70, has had amblyopia in his left eye since childhood. The visual acuity in his right eye is 20/20, and in his left eye, 20/400. Following an examination in 2015, his optometrist stated, “Mr. Gibson meets all requirements of vision to perform and operate a commercial vehicle.” Mr. Gibson reported that he has driven tractor-trailer combinations for 51 years, accumulating 6.63 million miles. He holds a Class A CDL from Texas. His driving record for the last 3 years shows no crashes and no convictions for moving violations in a CMV.

Trevor H. Hilton

Mr. Hilton, 24, has had amblyopia in his left eye since childhood. The visual acuity in his right eye is 20/20, and in his left eye, 20/100. Following an examination in 2015, his optometrist stated, “Patient has sufficient corrected vision to perform the driving tasks required to operate a commercial vehicle.” Mr. Hilton reported that he has driven tractor-trailer combinations for 3 years, accumulating 90,000 miles. He holds a Class AM CDL from Illinois. His driving record for the last 3 years shows no crashes and no convictions for moving violations in a CMV.

Michael D. Judy

Mr. Judy, 55, has had amblyopia in his left eye since childhood. The visual acuity in his right eye is 20/20, and in his left eye, 20/60. Following an examination in 2015, his optometrist stated, “Mr. Judy is amblyopic in his left eye, but in my professional opinion I see no reason he cannot drive a commercial vehicle, especially in light of the fact he has proven he can do so with a 16 year driving history with no accidents on his record.” Mr. Judy reported that he has driven straight trucks for 16 years, accumulating 480,000 miles. He holds a Class A CDL from Kansas. His driving record for the last 3 years shows no crashes and no convictions for moving violations in a CMV.

Karen L. Kelly

Ms. Kelly, 44, has had optic atrophy in her left eye since birth. The visual acuity in her right eye is 20/20, and in her left eye, 20/400. Following an examination in 2015, her ophthalmologist stated, “I certify that Karen Kelly has sufficient vision to perform the driving tasks required to operate a commercial vehicle.” Ms. Kelly reported that she has driven straight trucks for 20 years, accumulating 100,000 miles. She holds an operator's license from Delaware. Her driving record for the last 3 years shows no crashes and no convictions for moving violations in a CMV.

Joel H. Kohagen

Mr. Kohagen, 57, has had amblyopia in his left eye since childhood. The visual acuity in his right eye is 20/20, and in his left eye, 20/200. Following an examination in 2015, his optometrist stated, “I [sic] my medical opinion, Joel has sufficient vision to perform the driving tasks required to operate a commercial vehicle.” Mr. Kohagen reported that he has driven straight trucks for 38 years, accumulating 1.41 million miles, and tractor-trailer combinations for 10 years, accumulating 40,000 miles. He holds a Class A CDL from Iowa. His driving record for the last 3 years shows 1 crash, for which he was not cited and to which he did not contribute, and no convictions for moving violations in a CMV.

Kelly K. Kremer

Mr. Kremer, 58, has a prosthetic left eye due to a traumatic incident in 1995. The visual acuity in his right eye is 20/20, and in his left eye, no light perception. Following an examination in 2015, his optometrist stated, “In my medical opinion Mr. Kremer continues to have sufficient vision to perform the driving tasks required to operate a commercial vehicle.” Mr. Kremer reported that he has driven straight trucks for 2 years, accumulating 100,000 miles, and tractor-trailer combinations for 38 years, accumulating 4.75 million miles. He holds a Class A CDL from Oregon. His driving record for the last 3 years shows no crashes and no convictions for moving violations in a CMV.

Edward R. Lockhart

Mr. Lockhart, 46, has a prosthetic left eye due to a traumatic incident in 1990. The visual acuity in his right eye is 20/20, and in his left eye, no light perception. Following an examination in 2015, his optometrist stated, “In my opinion, although he has is monocular [sic], these tests show Mr. Lockhart has sufficient vision to perform his driving tasks involved in operating a commercial vehicle.” Mr. Lockhart reported that he has driven tractor-trailer combinations for 23 years, accumulating 575,000 miles. He holds an operator's license from Mississippi. His driving record for the last 3 years shows no crashes and no convictions for moving violations in a CMV.

Joshua L. Marasek

Mr. Marasek, 34, has had amblyopia in his right eye since childhood. The visual acuity in his right eye is HM, and in his left eye, 20/20. Following an examination in 2015, his ophthalmologist stated, “Josh Marasek has sufficient vision to perform the driving tasks required to operate a commercial vehicle.” Mr. Marasek reported that he has driven straight trucks for 11 years, accumulating 55,000 miles, and tractor-trailer combinations for 11 years, accumulating 1.1 million miles. He holds a Class AM CDL from Texas. His driving record for the last 3 years shows no crashes and no convictions for moving violations in a CMV.

Rodolfo Martinez, Jr.

Mr. Martinez, 62, has had a macular scar in his right eye since 2009. The visual acuity in his right eye is 20/100, and in his left eye, 20/40. Following an examination in 2014, his optometrist stated, “In my opinion, Mr. Martinez has sufficient vision to perform the driving tasks required to operate a commercial vehicle.” Mr. Martinez reported that he has driven straight trucks for 12 years, accumulating 12,000 miles. He holds a Class A CDL from Texas. His driving record for the last 3 years shows no crashes and no convictions for moving violations in a CMV.

Arthur J. McClintic

Mr. McClintic, 30, has had refractive amblyopia in his left eye since birth. The visual acuity in his right eye is 20/20, and in his left eye, 20/60. Following an examination in 2015, his optometrist stated, “In my opinion Arthur McClintic has sufficient vision to perform the driving tasks required to operate a commercial vehicle.” Mr. McClintic reported that he has driven straight trucks for 5 years, accumulating 102,000 miles, and tractor-trailer combinations for 5 years, accumulating 15,000 miles. He holds a chauffer's license from Michigan. His driving record for the last 3 years shows no crashes and no convictions for moving violations in a CMV.

Dale A. McCoy

Mr. McCoy, 53, has had amblyopia in his left eye since birth. The visual acuity in his right eye is 20/15, and in his left eye, 20/70. Following an examination in 2015, his optometrist stated, “In my opinion, Dale McCoy has sufficient vision to perform the driving tasks required to operate a commercial vehicle.” Mr. McCoy reported that he has driven straight trucks for 12 years, accumulating 306,000 miles. He holds a Class A CDL from Maine. His driving record for the last 3 years shows no crashes and no convictions for moving violations in a CMV.

Gregory G. Miller

Mr. Miller, 51, has complete loss of vision in his right eye due to a traumatic incident in childhood. The visual acuity in his right eye is no light perception, and in his left eye, 20/25. Following an examination in 2015, his ophthalmologist stated, “I believe he has sufficient vision to perform driving tasks required to operate a commercial vehicle.” Mr. Miller reported that he has driven tractor-trailer combinations for 33 years, accumulating 2.15 million miles. He holds a Class A CDL from Ohio. His driving record for the last 3 years shows no crashes and no convictions for moving violations in a CMV.

Zack E. Minielly

Mr. Minielly, 58, has optic nerve atrophy in his left eye due to a traumatic incident in childhood. The visual acuity in his right eye is 20/20, and in his left eye, hand motion. Following an examination in 2015, his optometrist stated, “Old optic nerve atrophy secondary to blunt trauma @ 14 years old . . . In my professional Opinion [sic] Mr. Minielly has the ability to have a CDL.” Mr. Minielly reported that he has driven straight trucks for 20 years, accumulating 1 million miles. He holds a Class B CDL from Georgia. His driving record for the last 3 years shows no crashes and no convictions for moving violations in a CMV.

Tobias G. Olsen

Mr. Olsen, 23, has had chronic optic neuropathy in his left eye since childhood. The visual acuity in his right eye is 20/20, and in his left eye, light perception. Following an examination in 2015, his ophthalmologist stated, “The patient has sufficient vision to perform the driving tasks required to operate a commercial vehicle.” Mr. Olsen reported that he has driven straight trucks for 10 years, accumulating 180,000 miles, tractor-trailer combinations for 6 years, accumulating 60,000 miles. He holds a Class D license from New York. His driving record for the last 3 years shows no crashes and no convictions for moving violations in a CMV.

Elroy Perkins

Mr. Perkins, 65, has complete loss of vision in his left eye due to a traumatic incident in 1980. The visual acuity in his right eye is 20/20, and in his left eye, no light perception. Following an examination in 2015, his ophthalmologist stated, “Certifies that in his/her medical opinion, you have sufficient vision to perform the driving tasks required to operate a commercial vehicle . . . Patient has excellent vision out of right eye only, and is able to perform driving tasks.” Mr. Perkins reported that he has driven straight trucks for 11 years, accumulating 297,000 miles. He holds an operator's license from Mississippi. His driving record for the last 3 years shows no crashes and no convictions for moving violations in a CMV.

Roy C. Rogers

Mr. Rogers, 50, has a prosthetic right eye due to a traumatic incident in childhood. The visual acuity in his right eye is no light perception, and in his left eye, 20/20. Following an examination in 2015, his optometrist stated, “In my medical opinion Mr. Rogers has sufficient vision to perform the driving task required to operate a commercial vehicle.” Mr. Rogers reported that he has driven straight trucks for 28 years, accumulating 308,000 miles, and tractor-trailer combinations for 24 years, accumulating 360,000 miles. He holds a Class A CDL from West Virginia. His driving record for the last 3 years shows no crashes and no convictions for moving violations in a CMV.

Michael P. Rydzinski

Mr. Rydzinski, 55, has had amblyopia and a color deficiency in his left eye since birth. The visual acuity in his right eye is 20/20, and in his left eye, 20/80. Following an examination in 2015, his ophthalmologist stated, “Because Mr. Rydzinski was born with these two conditions, I do believe he has made accommodations to drive a commercial vehicle safely and would be able to see a traffic light signal and be able to determine which is red, green, and yellow.” Mr. Rydzinski reported that he has driven straight trucks for 14 years, accumulating 182,000 miles. He holds a chauffer's license from Michigan. His driving record for the last 3 years shows no crashes and no convictions for moving violations in a CMV.

Dale L. Schneider

Mr. Schneider, 51, has a corneal scar in his right eye due to a traumatic incident in childhood. The visual acuity in his right eye is no light perception, and in his left eye, 20/15. Following an examination in 2015, his optometrist stated, “In my opinion, I would consider his vision to be sufficient to continue operating commercial vehicles.” Mr. Schneider reported that he has driven straight trucks for 4 years, accumulating 1,600 miles, and tractor-trailer combinations for 10 years, accumulating 16,000 miles. He holds a Class A CDL from Iowa. His driving record for the last 3 years shows no crashes and no convictions for moving violations in a CMV.

Keith R. Seabaugh

Mr. Seabaugh, 60, has a prosthetic right eye due to a traumatic incident in 1983. The visual acuity in his right eye is no light perception, and in his left eye, 20/20. Following an examination in 2015, his optometrist stated, “In my opinion that [sic] Mr. Keith Seabaugh's visual deficiency is stable, and he has sufficient vision to perform the driving tasks required to operate a commercial motor vehicle, and that this condition will not adversely affect his ability to operate a commercial motor vehicle safely as long as visual correction is worn.” Mr. Seabaugh reported that he has driven straight trucks for 14 years, accumulating 210,000 miles, tractor-trailer combinations for 1 year, accumulating 11,000 miles, and buses for 3 months, accumulating 7,500 miles. He holds an operator's license from Missouri. His driving record for the last 3 years shows no crashes and no convictions for moving violations in a CMV.

Robert G. Seils

Mr. Seils, 62, has a corneal scar in his left eye due to a traumatic incident in childhood. The visual acuity in his right eye is 20/20, and in his left eye, 20/200. Following an examination in 2015, his optometrist stated, “He has had a longstanding decrease in his left eye due to a corneal scar at age 3 . . . I feel that he is safe to operate a commercial vehicle.” Mr. Seils reported that he has driven straight trucks for 30 years, accumulating 936,000 miles, and tractor-trailer combinations for 30 years, accumulating 936,000 miles. He holds a Class AM CDL from New York. His driving record for the last 3 years shows no crashes and no convictions for moving violations in a CMV.

Randall C. Stephens

Mr. Stephens, 26, has had amblyopia in his right eye since childhood. The visual acuity in his right eye is 20/60, and in his left eye, 20/20. Following an examination in 2015, his optometrist stated, “I believe Randall Stephens has sufficient vision for driving a commercial vehicle.” Mr. Stephens reported that he has driven tractor-trailer combinations for 3 years, accumulating 75,000 miles. He holds an operator's license from Tennessee. His driving record for the last 3 years shows no crashes and no convictions for moving violations in a CMV.

Dale L. Stewart

Mr. Stewart, 56, has had amblyopia secondary to exotropia in his left eye since childhood. The visual acuity in his right eye is 20/20, and in his left eye, 20/70. Following an examination in 2015, his optometrist stated, “I believe this patient has sufficient vision to operate a commercial vehicle on major interstates and road ways.” Mr. Stewart reported that he has driven tractor-trailer combinations for 38 years, accumulating 3.99 million miles. He holds a Class CA CDL from Michigan. His driving record for the last 3 years shows no crashes and one conviction for a moving violation in a CMV; he was cited for improper lane use.

Warren S. Supulski

Mr. Supulski, 57, has had amblyopia in his left eye since childhood. The visual acuity in his right eye is 20/20, and in his left eye, 20/200. Following an examination in 2015, his optometrist stated, “It is my opinion that Warren has sufficient vision to preform [sic] the driving task required to operate a commercial vehicle.” Mr. Supulski reported that he has driven straight trucks for 22 years, accumulating 220,000 miles. He holds a Class B CDL from North Carolina. His driving record for the last 3 years shows no crashes and no convictions for moving violations in a CMV.

Paul J. Vines

Mr. Vines, 49, has had amblyopia in his left eye since childhood. The visual acuity in his right eye is 20/30, and in his left eye, 20/200. Following an examination in 2015, his optometrist stated, “Mr. Vines has shown sufficient vision for operating a commercial vehicle. In my medical opinion, he has sufficient vision to perform the driving tasks.” Mr. Vines reported that he has driven straight trucks for 22 years, accumulating 220,000 miles, and tractor-trailer combinations for 12 years, accumulating 120,000 miles. He holds an operator's license from Alabama. His driving record for the last 3 years shows no crashes and no convictions for moving violations in a CMV.

Hany A. Wagieh

Mr. Wagieh, 40, has had amblyopia in his right eye since birth. The visual acuity in his right eye is 20/80, and in his left eye, 20/20. Following an examination in 2015, his ophthalmologist stated, “In my medical opinion, the patient has sufficient vision to perform the driving tasks required to operate a commercial vehicle.” Mr. Wagieh reported that he has driven buses for 8 years, accumulating 368,000 miles. He holds an operator's license from New Jersey. His driving record for the last 3 years shows no crashes and no convictions for moving violations in a CMV.

Charles W. Williamson

Mr. Williamson, 74, has had amblyopia in his right eye since childhood. The visual acuity in his right eye is 20/100, and in his left eye, 20/25. Following an examination in 2015, his optometrist stated, “Mr. Williamson should have adequate visual acuity to meet the requirements for a CDL.” Mr. Williamson reported that he has driven straight trucks for 2 years, accumulating 200,000 miles, and tractor-trailer combinations for 50 years, accumulating 5.75 million miles. He holds a Class A CDL from Oklahoma. His driving record for the last 3 years shows no crashes and no convictions for moving violations in a CMV.

Gregory A. Woodward

Mr. Woodward, 65, has a prosthetic left eye due to a traumatic incident in 1980. The visual acuity in his right eye is 20/20, and in his left eye, no light perception. Following an examination in 2015, his optometrist stated, “In my medical opinion, Mr. Woodward's vision is sufficient for the vision required to operate a commercial vehicle.” Mr. Woodward reported that he has driven tractor-trailer combinations for 31 years, accumulating 3.19 million miles. He holds a Class A CDL from Oregon. His driving record for the last 3 years shows no crashes and no convictions for moving violations in a CMV.

Alton R. Young III

Mr. Young, 47, has complete loss of vision in his right eye due to a traumatic incident in childhood. The visual acuity in his right eye is counting fingers, and in his left eye, 20/20. Following an examination in 2015, his optometrist stated, “I feel his vision is adequate to drive a commercial vehicle.” Mr. Young reported that he has driven tractor-trailer combinations for 8 years, accumulating 832,000 miles. He holds a Class A CDL from Mississippi. His driving record for the last 3 years shows no crashes and no convictions for moving violations in a CMV.

III. Public Participation and Request for Comments

FMCSA encourages you to participate by submitting comments and related materials.

Submitting Comments

If you submit a comment, please include the docket number for this notice, indicate the specific section of this document to which each comment applies, and provide a reason for each suggestion or recommendation. You may submit your comments and material online or by fax, mail, or hand delivery, but please use only one of these means. FMCSA recommends that you include your name and a mailing address, an email address, or a phone number in the body of your document so the Agency can contact you if it has questions regarding your submission.

To submit your comment online, go to http://www.regulations.gov and put the docket number FMCSA-2015-0072 in the “Keyword” box, and click “Search. When the new screen appears, click on “Comment Now!” button and type your comment into the text box in the following screen. Choose whether you are submitting your comment as an individual or on behalf of a third party and then submit. If you submit your comments by mail or hand delivery, submit them in an unbound format, no larger than 8½ by 11 inches, suitable for copying and electronic filing. If you submit comments by mail and would like to know that they reached the facility, please enclose a stamped, self-addressed postcard or envelope.

FMCSA will consider all comments and material received during the comment period and may change this notice based on your comments.

Viewing Comments and Documents

To view comments, as well as documents mentioned in this preamble as being available in the docket, go to http://www.regulations.gov and insert the docket number FMCSA-2015-0072 in the “Keyword” box and click “Search.” Next, click “Open Docket Folder” button and choose the document listed to review. If you do not have access to the Internet, you may view the docket online by visiting the Docket Management Facility in Room W12-140 on the ground floor of the DOT West Building, 1200 New Jersey Avenue SE., Washington, DC 20590, between 9 a.m. and 5 p.m., e.t., Monday through Friday, except Federal holidays.

Dated: November 5, 2015
Larry W. Minor,
Associate Administrator for Policy.

[FR Doc. 2015-28741 Filed 11-10-15; 8:45 am]

BILLING CODE 4910-EX-P